DEPARTMENT OF JUSTICE

[OMB Number 1121-NEW]

Agency Information Collection Activities; Proposed eCollection eComments Requested; New Collection: Methodological Research To Support the National Crime Victimization Survey Redesign Program: National Survey of Crime and Safety—Field Test

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until April 22, 2019.

FOR FURTHER INFORMATION CONTACT: If you have additional comments especially on the estimated public burden or associated response time, suggestions, or need a copy of the proposed information collection instrument with instructions or additional information, please contact Jennifer Truman, Statistician, Bureau of Justice Statistics, 810 Seventh Street NW, Washington, DC 20531 (email: Jennifer.Truman@usdoj.gov; telephone: 202-514-5083).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: New collection under activities related to the National Crime Victimization Survey Redesign Program: National Survey of Crime and Safety—Field Test.

(2) The Title of the Form/Collection: National Survey of Crime and Safety (NSCS).

(3) The agency form number, if any, and the applicable component of the Department sponsoring the collection: The form number for the questionnaire is NSCS1, NSCS2, NSCS3, NSCS4, NSCS5, and NSCS6. The applicable component within the Department of Justice is the Bureau of Justice Statistics, in the Office of Justice Programs.

(4) Affected public who will be asked or required to respond, as well as a brief abstract: Respondents will be all persons 12 years or older living in households located throughout the 48 contiguous states and the District of Columbia sampled for the National Survey of Crime and Safety. Persons living in Alaska and Hawaii and those living in group quarters are excluded for operational efficiency. In early 2014, BJS initiated the NCVS Instrument Redesign and Testing Project to develop a new design for the NCVS. The overarching objective for this project is to redesign and test the NCVS roster control card, crime screener, and crime incident report. The purpose of the National Survey of Crime and Safety field test will be to test the redesigned versions of the roster control card, crime screener, and crime incident report. The NSCS field test will include administration of the current NCVS interview, an interviewer-administered, Web-based, revised questionnaire, and a self-administered version of the revised questionnaire. The goal of the NSCS field test is to inform final decisions and recommendations for the redesign of the NCVS survey instrument to modernize it and to capture indicators of safety, security and perceptions of police that provide important information on public perceptions and potential correlates of victimization.

(5) An estimate of the total number of respondents and the amount of time estimated for an average respondent to respond: An estimate of the total number of respondents is 12,293 persons age 12 or older. The sample is divided into three groups by instrument version: The current interviewer-administered NCVS instrument (NSCS1 and NSCS2), an interviewer-administered, Web-based, revised questionnaire (NSCS3 and NSCS4, and a self-administered version of the revised questionnaire (NSCS5 and NSCS6).

• The first group of 4,085 persons age 12 or older will receive the current interviewer-administered NCVS instrument. About 2,774 respondents will be the household respondent and receive the roster control card, which is estimated to take 9 minutes per respondent for a total of 416 burden hours. All 4,085 persons age 12 or older will receive the victimization screener, which is estimated to take 9 minutes per respondent for a total of 613 burden hours. It is anticipated that 768 persons in this group will report a victimization and receive the crime incident report, which is estimated to take 15 minutes per respondent for a total of 250 burden hours. There are an estimated 1,278 total burden hours for this group.

• The second group of 4,085 persons age 12 or older will receive the interviewer-administered Web-based, revised questionnaire. About 2,774 respondents will be the household respondent and receive the roster control card, which is estimated to take 9 minutes per respondent for a total of 416 burden hours. All 4,085 persons age 12 or older will receive the non-crime questions (perceptions of community safety or their local police) and victimization screener, which is estimated to take 16.2 minutes per respondent for a total of 1,103 burden hours. It is anticipated that 768 persons in this group will report a victimization and receive the crime incident report, which is estimated to take 18 minutes per respondent for a total of 300 burden hours. There are an estimated 1,819 total burden hours for this group.

• The third group of 4,122 persons age 12 or older will receive the self-administered version of the revised questionnaire. About 3,752 respondents will be the household respondent and receive the roster control card, which is estimated to take 9 minutes per respondent for a total of 563 burden hours. All 4,122 persons age 12 or older will receive the non-crime questions (perceptions of community safety or their local police) and victimization screener, which is estimated to take 13.2 minutes per respondent for a total of 907 burden hours. It is anticipated that 768 persons in this group will report a victimization and receive the crime incident report, which is estimated to take 15 minutes per respondent for a total of 250 burden hours. There are an estimated 1,719 total burden hours for this group.

(6) An estimate of the total public burden (in hours) associated with the collection: There are an estimated 4,816 burden hours associated with this collection.

If additional information is required contact: Melody Braswell, Department Clearance Officer, United States Department of Justice, Justice Management Division, Policy and Planning Staff, Two Constitution Square, 145 N Street NE, 3E.405A, Washington, DC 20530.

Dated: February 15, 2019.
Melody Braswell,
Department Clearance Officer for PRA, U.S. Department of Justice.

[FR Doc. 2019-02991 Filed 2-20-19; 8:45 am]

BILLING CODE 4410-18-P